DEPARTMENT OF TRANSPORTATION

Federal Aviation Administration

14 CFR Part 73

[Docket No. FAA-2004-17773; Airspace Docket No. 04-ASW-11]

RIN 2120-AA66

Modification of Restricted Areas 5103A, 5103B, and 5103C and Revocation of Restricted Area 5103D; McGregor, NM

AGENCY: Federal Aviation Administration (FAA), DOT.

ACTION: Final rule; correction.

SUMMARY: This action corrects a final rule (Airspace Docket No. 04-ASW-11) published in the Federal Register on December 13, 2004 (69 FR 72113). That action modified Restricted Areas 5103A (R-5103A), 5103B (R-5103B), and 5103C (R-5103C) and revoked Restricted Area 5103D (R-5103D), at the request of the United States (U.S.) Army. Subsequent to the issuance of the final rule, the U.S. Army identified an error in their requested boundaries for R-5103C. This action corrects that error.

DATES: Effective 0901 UTC, October 27, 2005.

FOR FURTHER INFORMATION CONTACT: Steve Rohring, Airspace and Rules, Office of System Operations and Safety, Federal Aviation Administration, 800 Independence Avenue, SW., Washington, DC 20591; telephone: (202) 267-8783.

SUPPLEMENTARY INFORMATION:

History

On December 13, 2004, Airspace Docket No. 04-ASW-11 was published in the Federal Register (69 FR 72113) modifying R-5103A, R-5103B, and R-5103C and revoking R-5103D, at the request of the U.S. Army. Subsequent to the issuance of the final rule, the U.S. Army identified an error in their requested boundaries for R-5103C in that, the phrase “then along the Southern Pacific Railroad” was inadvertently omitted. Also, there were some minor errors in the coordinates that defined the boundaries of two “cut-out” areas of R-5103C. This action corrects those errors. Because the requested corrections reduce the size of the geographic boundaries of R-5103, we find that issuance of a notice of proposed rulemaking is not necessary.

List of Subjects in 14 CFR Part 73

Airspace, Navigation (air).

Correction to Final Rule

Accordingly, pursuant to the authority delegated to me, the boundaries for R-5103C, Airspace Docket No. 04-ASW-11, as published in the Federal Register on December 13, 2004 (69 FR 72113), are hereby corrected as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.51 [Corrected]

2. Section 73.51 is corrected to read as follows:

* * * * *

R-5103C McGregor, NM (Corrected)

* * * * *

Boundaries. Beginning at lat. 32°45′00″ N., long. 105°53′02″ W.; to lat. 32°45′00″ N., long. 105°52′22″ W.; to lat. 32°33′20″ N., long. 105°30′02″ W.; to lat. 32°26′20″ N., long. 105°30′02″ W.; to lat. 32°15′00″ N., long. 105°42′02″ W.; to lat. 32°15′00″ N., long. 106°10′02″ W.; then along the Southern Pacific Railroad to lat. 32°28′00″ N., long. 106°02′02″ W.; to lat. 32°27′40″ N., long. 106°00′02″ W.; to lat. 32°36′00″ N., long. 106°00′00″ W.; to lat. 32°45′00″ N., long. 105°59′02″ W.; to the point of beginning, excluding that airspace within a 2 NM radius of lat. 32°39′02″ N., long. 105°40′36″ W.; from the surface to 1,500′ AGL and also excluding that airspace beginning at lat. 32°42′49″ N., long. 105°48′12″ W.; to lat. 32°40′47″ N., long. 105°49′40″ W.; to lat. 32°39′42″ N., long. 105°47′44″ W.; to lat. 32°41′48″ N., long. 105°46′14″ W.; to the point of beginning from the surface to 1,500′ above the surface.

* * * * *

Issued in Washington, DC, on May 17, 2005.
Edith V. Parish,
Acting Manager, Airspace and Rules.

[FR Doc. 05-10902 Filed 6-8-05; 8:45 am]

BILLING CODE 4910-13-P